DEPARTMENT OF STATE

[Public Notice 7032]

Culturally Significant Objects Imported for Exhibition Determinations: “Dynasty and Divinity: Ife Art in Ancient Nigeria”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the objects to be included in the exhibition “Dynasty and Divinity: Ife Art in Ancient Nigeria,” imported from abroad for temporary exhibition within the United States, are of cultural significance. The objects are imported pursuant to loan agreements with the foreign owner or custodian. I also determine that the exhibition or display of the exhibit objects at the Museum of Fine Arts, Houston, TX, from on or about September 19, 2010, until on or about January 9, 2011; at the Virginia Museum of Fine Arts, Richmond, VA, from on or about February 19, 2011, until on or about May 22, 2011; at the Indianapolis Museum of Art, Indianapolis, IN, from on or about July 10, 2011, until on or about October 9, 2011; at the Museum for African Art, New York, NY, from on or about November 11, 2011, until on or about March 4, 2012, and at possible additional exhibitions or venues yet to be determined, is in the national interest. Public Notice of these Determinations is ordered to be published in the Federal Register.

FOR FURTHER INFORMATION CONTACT: For further information, including a list of the exhibit objects, contact Carol B. Epstein, Attorney-Adviser, Office of the Legal Adviser, U.S. Department of State (telephone: 202/632-6473). The address is U.S. Department of State, SA-5, L/PD, Fifth Floor, Washington, DC 20522-0505.

Dated: May 21, 2010.
Maura M. Pally,
Deputy Assistant Secretary for Professional and Cultural Exchanges, Bureau of Educational and Cultural Affairs, Department of State.

[FR Doc. 2010-13066 Filed 5-28-10; 8:45 am]

BILLING CODE 4710-05-P